SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires Federal agencies to publish a notice in the Federal Register concerning each proposed collection of information before submission to OMB, and to allow 60 days for public comment in response to the notice. This notice complies with that requirement.

DATES: Submit comments on or before February 1, 2021.

ADDRESSES: Send all comments by email to Gregorius Suryadi, Financial and Loan Specialist, Office of Financial Assistance, Small Business Administration at gregorius.suryadi@sba.gov.

FOR FURTHER INFORMATION CONTACT: Gregorius Suryadi, Financial and Loan Specialist, (202) 205-6656, gregorius.suryadi@sba.gov, or Curtis B. Rich, Management Analyst, (202) 205-7030, curtis.rich@sba.gov;

SUPPLEMENTARY INFORMATION: For SBA financial assistance programs, SBA Form 413 Personal Financial Statement (PFS) collects information regarding the assets and liabilities of certain owners, officers and guarantors of the small business applicant benefiting from such assistance and is used when analyzing the applicant's repayment abilities or creditworthiness. SBA's Surety Bond Guaranty Program uses the Form 413 PFS information during the claim recovery process. The information is also collected from applicants and participants in SBA's 8(a)/BD and Women-Owned Small Business (WOSB) Program certification process to determine whether they meet the economic disadvantage requirements of the program.

SBA currently has four versions of the Form 413 PFS. The Agency plans to consolidate and streamline these into one Form 413 which will be used across the various program offices. SBA plans to expand and clarify the instructions for the Form 413 to ensure the public will be aware of the specific submission process for each program office. Lastly, the Form 413 may undergo significant formatting changes to make it easier to address mandatory Federal government 508 accessibility compliance.

Solicitation of Public Comments

SBA is requesting comments on (a) Whether the collection of information is necessary for the Agency to properly perform its functions; (b) whether the burden estimates are accurate; (c) whether there are ways to minimize the burden, including through the use of automated techniques or other forms of information technology; and (d) whether there are ways to enhance the quality, utility, and clarity of the information.

Summary of Information Collection

(1) Title: Personal Financial Statement.

Description of Respondents: 7(a) and 504 loan Program applicants, Surety Bond Program recovery claimants, Disaster Loan Program applicants excluding sole proprietors and individuals, 8(a)/BD and WOSB Program applicants.

Form Number: SBA Forms 413 7(a)/504/SBG, 413 Disaster, 413 8(a) and 413 WOSB.

Total Estimated Annual Responses: 371,108.

Total Estimated Annual Hour Burden: 391,812.

Curtis Rich,
Management Analyst.

[FR Doc. 2020-26470 Filed 11-30-20; 8:45 am]

BILLING CODE 8026-03-P